DEPARTMENT OF HOMELAND SECURITY

Transportation Security Administration

Extension of Agency Information Collection Activity Under OMB Review: TSA End of Course Level 1 Evaluation-Instructor-Led Classroom Training

AGENCY: Transportation Security Administration, DHS.

ACTION: 30-Day notice.

SUMMARY: This notice announces that the Transportation Security Administration (TSA) has forwarded the Information Collection Request (ICR), Office of Management and Budget (OMB) control number 1652-0041, abstracted below to OMB for review and approval of an extension of the currently approved collection under the Paperwork Reduction Act (PRA). The ICR describes the nature of the information collection and its expected burden. The collection involves the submission of ratings and written comments about the quality of training instruction from TSA students who successfully complete TSA instructor-led classroom training. TSA students include TSA personnel, as well as State and local civilian personnel, who attend any of the following courses at the Canine Training Center (CTC): Explosives Detection Canine Handler Course, Passenger Screening Canine Handler Course, Bridge Course, Canine Training Instructor Course, and the Security Operations (SO) Canine Management Course.

DATES: Send your comments by May 20, 2022. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on November 15, 2021, 86 FR 63049.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA End of Course Level 1 Evaluation-Instructor-Led Classroom Training.

Type of Request: Extension of a currently approved collection.

OMB Control Number: 1652-0041.

Forms(s): TSA Form 1904A.

Affected Public: Canine Handlers.

Abstract: TSA's CTC delivers the Explosives Detection Canine Handler Course, Passenger Screening Canine Handler Course, Bridge Course, Canine Training Instructor Course, and the SO Canine Management Course to TSA personnel, as well as to State and local civilian personnel. State and local civilian personnel, primarily consisting of law enforcement agencies that are responsible for the security at airports throughout the United States, participate under agency-specific cooperative agreements with TSA's National Explosives Detection Canine Team Program. This information collection captures ratings and written comments and feedback from students about the quality of the referenced training.

The CTC collects the evaluation data to determine students' satisfaction with their learning experience and provides it to representatives at both TSA headquarters and at CTC (e.g., to the Branch Manager, Deputy Branch Manager, and CTC instructional staff and supervisors) to improve the course curriculum and course of instruction.

Number of Respondents: 156.

Estimated Annual Burden Hours: An estimated 78 hours annually.

Dated: April 14, 2022.
Christina A. Walsh,
TSA Paperwork Reduction Act Officer, Information Technology.

[FR Doc. 2022-08378 Filed 4-19-22; 8:45 am]

BILLING CODE 9110-05-P